DEPARTMENT OF COMMERCE

International Trade Administration

[A-583-008]

Certain Circular Welded Carbon Steel Pipes and Tubes From Taiwan: Final Results of Antidumping Duty Administrative Review

AGENCY: Import Administration, International Trade Administration, Department of Commerce.

ACTION: Notice of final results of antidumping duty administrative review.

SUMMARY: On June 7, 2000, the Department of Commerce (the Department) published the preliminary results of review of the antidumping duty order on certain circular welded carbon steel pipes and tubes from Taiwan (65 FR 36110). The review covers one manufacturer/exporter of the subject merchandise to the United States and the period May 1, 1998 through April 30, 1999. The manufacturer covered is Yieh Hsing Enterprise Co. Ltd. (Yieh Hsing). This review originally covered seven firms; however, we rescinded the review with respect to six of these companies at the preliminary results. Based on our analysis of the comments received, we have made changes in the margin calculations. Therefore, the final results differ from the preliminary results. The final weighted-average dumping margin for the reviewed firm is listed below in the section entitled “Final Results of Review.”

EFFECTIVE DATE: October 12, 2000.

FOR FURTHER INFORMATION CONTACT: Thomas Killiam or Robert James, Import Administration, International Trade Administration, U.S. Department of Commerce, 14th Street and Constitution Avenue, NW, Washington, DC 20230; telephone (202) 482-5222 or (202) 482-0649, respectively.

SUPPLEMENTARY INFORMATION:

The Applicable Statute and Regulations

Unless otherwise indicated, all citations to the Tariff Act of 1930, as amended (the Tariff Act) are references to the provisions effective January 1, 1995, the effective date of the amendments made to the Act by the Uruguay Round Agreements Act (URAA). In addition, unless otherwise indicated, all citations to the Department's regulations are to the regulations codified at 19 CFR part 351 (1999).

Background

On June 7, 2000 the Department published the preliminary results of this administrative review, and rescinded the review with respect to Far East Machinery Co., Ltd., Sheng Yu Steel Co., Ltd., Tai Feng Industries Ltd., Kao Hsing Chang Iron & Steel Corporation, Yu Din Steel Co., Ltd., and Yieh Loong Co., Ltd. See Certain Circular Welded Carbon Steel Pipes and Tubes From Taiwan: Preliminary Results of Antidumping Duty Administrative Review and Partial Rescission of Review (65 FR 36110) (Preliminary Results). We received comments on the Preliminary Results from respondent Yieh Hsing. We received no rebuttal comments from the petitioners.¹ The Department has now completed this review in accordance with section 751 of the Tariff Act.

¹ Allied Tube & Conduit Corp., Wheatland Tube Company, and the Sawhill Tubular Division of Armco Inc.

Scope of the Review

Imports covered by this review are shipments of certain circular welded carbon steel pipes and tubes. The Department defines such merchandise as welded carbon steel pipes and tubes of circular cross section, with walls not thinner than 0.065 inch and 0.375 inch or more but not over 4½ inches in outside diameter. These products are commonly referred to in the industry as standard pipe and are produced to various American Society for Testing and Materials specifications, most notably A-53, A-120, or A-135. Standard pipe is currently classified under Harmonized Tariff Schedule of the United States (HTSUS) item numbers 7306.30.5025, 7306.30.5032, 7306.30.5040, and 7306.30.5055. Although the HTSUS subheading is provided for convenience and customs purposes, the written description of the merchandise under review is dispositive.

Methodology

Except for the corrections of clerical errors discussed below we did not change our method of analysis from the preliminary results. Thus, we applied the same methods with regard to price and cost of production, and observed the requirements of section 773(a)(1)(B)(i) of the Tariff Act concerning our level-of-trade analysis.

Comment 1: Model Match Characteristics

Yieh Hsing argues that the Department mistakenly included the product characteristic of thickness twice to create its concordance for U.S. sales in its model matching program. Because of this error, Yieh Hsing asserts, the product characteristic of specification was excluded from the concordance with respect to U.S. sales, and a U.S. sale was improperly matched with non-identical or non-similar home market sales to calculate Yieh Hsing's dumping margin.

Department's Position

We agree with Yieh Hsing that in the model match program the characteristic measuring pipe wall thickness was not properly referenced when matching U.S. sales to home market sales, and we have adjusted our final results accordingly (See Analysis Memorandum).

Comment 2: Matching Sales in the Same Month

Yieh Hsing argues that the number code that the Department assigned to U.S. sales for a particular month in its margin calculation program was not identical to the number code assigned to home market sales sold in the same month in its model matching program. Yieh Hsing asserts this error resulted in comparison of U.S. sales of a month with home market sales in the wrong months.

Department's Position

We agree that the number codes for the months in the model matching program were incorrect and have corrected those typographical errors (See Analysis Memorandum).

Comment 3: Improper Coding of Sales Months

Yieh Hsing further claims that the Department assigned two different number codes to January 1998 in its model matching program and margin program. Because of these errors, Yieh Hsing argues, the margin calculation program failed to compare U.S. sales to the correct contemporaneous home market sales.

Department's Position

We agree that the number codes for the months in the model matching program and margin program were incorrect and have corrected those typographical errors (See Analysis Memorandum).

Final Results of Review

As a result of this review, we determine that the following weighted-average margin exists:

Manufacturer/exporter | Period of review | Margin (percent)
Yieh Hsing | 5/1/1998-4/30/1999 | 0.17

The Department shall determine, and the Customs Service shall assess, antidumping duties on all appropriate entries. The Department shall issue appraisement instructions directly to the Customs Service. For assessment purposes, the Department has calculated importer-specific assessment rates by dividing the total antidumping duties calculated for the subject merchandise examined by the entered value of such merchandise. The Department will direct the Customs Service to assess antidumping duties on appropriate entries by applying the assessment rate to the entered value of the merchandise entered during the POR, except where the assessment rate is zero or de minimis (see 19 CFR 351.106(c)(2)).

Furthermore, the following deposit requirements will be effective for all shipments of certain circular welded carbon steel pipes and tubes from Taiwan entered, or withdrawn from the warehouse, for consumption on or after the publication date of the final results of these administrative reviews, as provided by section 751(a)(1) of the Tariff Act: (1) The cash deposit rate for Yieh Hsing will be zero, in light of its de minimis weighted-average margin; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) if neither the exporter nor the manufacturer is a firm covered in this review, the cash deposit rate will be 9.70 percent. This rate is the “all others” rate from the amended final determination in the LTFV investigation.

This notice also serves as a reminder to importers of their responsibility under 19 CFR 351.402(f)(2) to file a certificate regarding the reimbursement of antidumping duties prior to liquidation of the relevant entries during these review periods. Failure to comply with this requirement could result in the Secretary's presumption that reimbursement of antidumping duties occurred and the subsequent assessment of double antidumping duties.

This notice also serves as a reminder to parties subject to administrative protective orders (APOs) of their responsibility concerning the disposition of proprietary information disclosed under APO in accordance with sections 351.305 and 351.306 of the Department's regulations. Timely written notification of the return/destruction of APO materials or conversion to judicial protective order is hereby requested. Failure to comply with the regulations and terms of an APO is a violation which is subject to sanction.

This administrative review and notice are in accordance with section 751(a)(1) of the Tariff Act (19 U.S.C. 1675(a)(1)) and 19 CFR 351.221.

Dated: October 5, 2000.
Troy H. Cribb,
Acting Assistant Secretary for Import Administration.

[FR Doc. 00-26243 Filed 10-11-00; 8:45 am]

BILLING CODE 3510-DS-P